FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 18, 2003.

A. Federal Reserve Bank of Atlanta (Sue Costello, Vice President) 1000 Peachtree Street, N.E., Atlanta, Georgia 30309-4470:

1. Lawrence Wayne Maxwell, Anita Kay Maxwell, and Lawrence Todd Maxwell, all of Lakeland, Florida; to collectively acquire up to 19.9 percent of the voting shares of CenterState Banks of Florida, Inc., and thereby indirectly acquire CenterState Bank of Florida, both in Winter Haven, Florida.

B. Federal Reserve Bank of Chicago (Patrick Wilder, Managing Examiner) 230 South LaSalle Street, Chicago, Illinois 60690-1414:

1. JP Family Limited Partnership, Catherine J. Gonzalez, as trustee of the Catherine J. Gonzalez Declaration of Trust, Jane J. Presney, as trustee of the Jane J. Presney Declaration of Trust, Paul E. Presney, Sr., as trustee of the Paul E. Presney, Sr. Declaration of Trust; all of Springfield, Illinois, and Paul E. Presney, II, Rochester, Illinois, to retain control of 34.79 percent of the voting shares of Will Bancorp, Inc., and thereby retain control of Williamsville State Bank and Trust, both of Williamsville, Illinois.

Board of Governors of the Federal Reserve System, November 28, 2003.
Jennifer J. Johnson,
Secretary of the Board.

[FR Doc. 03-30144 Filed 12-3-03; 8:45 am]

BILLING CODE 6210-01-S